DEPARTMENT OF DEFENSE

Department of the Navy

[USN-2006-0030]

Privacy Act of 1974; System of Records

AGENCY: Department of the Navy, DoD.

ACTION: Notice to amend systems of records.

SUMMARY: The Department of the Navy is amending a system of records notice in its existing inventory of record systems subject to the Privacy Act of 1974, (5 U.S.C. 552a), as amended.

DATES: This proposed action will be effective without further notice on July 14, 2006, unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: June 7, 2006.
C.R. Choate,
Alternate OSD Federal Register Liaison Officer, Department of Defense.

N01131-1

System name:

Officer Selection and Appointment System (February 22, 1993, 58 FR 10708).

Changes:

* * * * *

System location:

In first paragraph, delete “4015 Wilson Boulevard, Arlington, VA 22203-1991” and replace with: “5722 Integrity Drive, Millington, TN 38054-5057”.

* * * * *

Routine uses of records maintained in the system, including categories of users and the purposes of such uses: Delete third paragraph and replace with: “To the Department of Veterans Affairs in the performance of their official duties related to enlistment and reenlistment eligibility and related benefits.”

* * * * *

System manager(s) and address:

In first paragraph, delete “4015 Wilson Boulevard, Arlington, VA 22203-1991” and replace with: “5722 Integrity Drive, Millington, TN 38054-5057”.

Notification procedure:

In first paragraph, delete “4015 Wilson Boulevard, Arlington, VA 22203-1991” and replace with: “5722 Integrity Drive, Millington, TN 38054-5057”.

Record access procedures:

In first paragraph, delete “4015 Wilson Boulevard, Arlington, VA 22203-1991” and replace with: “5722 Integrity Drive, Millington, TN 38054-5057”.

* * * * *

N01131-1

System name:

Officer Selection and Appointment System.

System location:

Primary System: For Active Duty Recruiting—Headquarters, Navy Recruiting Command, 5722 Integrity Drive, Millington, TN 38054-5057; For Reserve Recruiting: Naval Reserve 4 Recruiting Command, 4400 Dauphine Street, New Orleans, LA 70146-5001.

Decentralized segments—Headquarters, Navy Recruiting Activities and subsidiary offices; Armed Forces Entrance and Examining Centers; Chief of Naval Personnel; Chief, Bureau of Medicine and Surgery; National Personnel Records Centers; Naval Reserve Units; Naval Education and Training Activities; NROTC Units; Naval Sea Systems Command Headquarters; Naval Intelligence Command and subsidiary activities; Department of Defense Medical Examination Review Board; Naval Reserve Recruiting Command detachments and reserve recruiting field offices.

Categories of individuals covered by the system:

Individuals who have made application for direct appointment to commissioned grade in the Regular Navy or Naval Reserve, applied for officer candidate program leading to commissioned status in the U.S. Naval Reserve, applied for a Navy/Marine Corps sponsored NROTC scholarship program or preparatory school program, applied for interservice transfer to Regular Navy or Naval Reserve.

Categories of records in the system:

Records and correspondence in both automated and nonautomated form concerning any applicant's personal history, education, professional qualifications, physical qualifications, mental aptitude, character and interview appraisals, National Agency Checks and certifications of background investigations.

Authority for maintenance of the system:

5 U.S.C. 301, Departmental Regulations, 10 U.S.C. Sections governing authority to appoint officers; 10 U.S.C. 591, 600, 716, 2107, 2122, 5579, 5600; Merchant Marine Act of 1939 (as amended); and E.O.s 9397, 10450, and 11652.

Purpose(s):

To manage and contribute to the recruitment of qualified men and women for officer programs and the regular and reserve components of the Navy.

To ensure quality military recruitment and to maintain records pertaining to the applicant's personal profile for purposes of evaluation for fitness for commissioned service.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees of the Department of Transportation in the performance of their official duties relating to the recruitment of Merchant Marine personnel.

To officials and employees of other departments and agencies of the Executive Branch of government, upon request, in the performance of their official duties related to the management of quality military recruitment.

To the Department of Veterans Affairs in the performance of their official duties related to enlistment and reenlistment eligibility and related benefits.

The 'Blanket Routine Uses' that appear at the beginning of the Navy's compilation of systems notices also apply to this system.

Policies and practices for storing, retrieving, accessing, retaining, and disposing of records in the system:

Storage:

Automated records are stored on magnetic tape; paper records are stored in file folders.

Retrievability:

Name and Social Security Number of applicant.

Safeguards:

Records kept in file cabinets and offices locked after working hours. Based on requirements of user activity, some buildings have 24-hour security guards.

Retention and disposal:

Application records maintained six months; after six months, summary sheets maintained for five years at National Record Storage Center. NROTC application records kept for current year only. Correspondence files maintained for two years.

System manager(s) and address:

For Active Duty Recruiting: Commander, Navy Recruiting

Command, 5722 Integrity Drive, Millington, TN 38054-5057.

For Reserve Recruiting: Commander, Naval Reserve Recruiting Command, 4400 Dauphine Street, New Orleans, LA 70146-5000.

Notification procedure:

Individuals seeking to determine whether this system of records contains information about themselves should address written inquiries for active duty recruiting information to the Commander, Navy Recruiting Command (ATTN: Privacy Act Coordinator), 5722 Integrity Drive, Millington, TN 38054-5057; or to the applicable Naval Recruiting District as listed under U.S. Government in white pages of telephone book. For reserve recruiting information to the Commander, Naval Reserve Recruiting Command (ATTN: Privacy Act Coordinator), 4400 Dauphine Street, New Orleans, LA 70146-5000, or to the applicable Naval Reserve Recruiting Detachment.

Letter should contain full name, address, Social Security Number and signature. The individual may visit any location. Proof of identification will consist of picture-bearing or other official identification.

Record access procedures:

Individuals seeking access to records about themselves contained in this system of records should address written inquiries for active duty recruiting information to the Commander, Navy Recruiting Command (ATTN: Privacy Act Coordinator), 5722 Integrity Drive, Millington, TN 38054-5057; or to the applicable Naval Recruiting District as listed under U.S. Government in white pages of telephone book. For reserve recruiting information to the Commander, Naval Reserve Recruiting Command (ATTN: Privacy Act Coordinator), 4400 Dauphine Street, New Orleans, LA 70146-5000, or to the applicable Naval Reserve Recruiting Detachment.

Letter should contain full name, address, Social Security Number and signature. The individual may visit any location. Proof of identification will consist of picture-bearing or other official identification.

Contesting record procedures:

The Navy's rules for accessing records, and for contesting contents and appealing initial agency determinations are published in Secretary of the Navy Instruction 5211.5; 32 CFR part 701; or may be obtained from the system manager.

Record source categories:

Navy Recruiting personnel and employees processing applications; medical personnel conducting physical examination and private physicians providing consultations or patient history; character and employer references named by applicants; educational institutions, staff and faculty members; Selective Service Commission; local, state, and Federal law enforcement agencies; prior or current military service record; Members of Congress; Commanding Officer of Naval Unit, if active duty; Department of Navy offices charged with personnel security clearance functions. Other officials and employees of the Department of the Navy, Department of Defense, and components thereof, in the performance of their official duties and as specified by current instructions and regulations promulgated by competent authority.

Exemptions claimed for the system:

Parts of this system may be exempt under the provisions of 5 U.S.C. 552a(k)(1), (k)(5) , (k)(6) and (k)(7), as applicable.

An exemption rule for this system has been promulgated in accordance with the requirements of 5 U.S.C. 553(b)(1), (2), and (3), (c) and (e) and published in 32 CFR part 701, subpart G. For additional information, contact the system manager.

[FR Doc. 06-5399 Filed 6-13-06; 8:45 am]

BILLING CODE 5001-06-M